FEDERAL COMMUNICATIONS COMMISSION

[OMB 3060-0678]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written comments should be submitted on or before May 24, 2019. If you anticipate that you will be submitting comments but find it difficult to do so within the period of time allowed by this notice, you should advise the contacts below as soon as possible.

ADDRESSES: Direct all PRA comments to Cathy Williams, FCC, via email: PRA@fcc.gov and to Cathy.Williams@fcc.gov.

FOR FURTHER INFORMATION CONTACT: For additional information about the information collection, contact Cathy Williams at (202) 418-2918.

SUPPLEMENTARY INFORMATION:

OMB Control No.: 3060-0678.

Title: Part 25 of the Commission's Rules Governing the Licensing of, and Spectrum Usage by, Satellite Network Stations and Space Stations.

Form No: FCC Form 312, FCC Form 312-EZ, FCC Form 312-R and Schedules A, B and S.

Type of Review: Revision of a currently approved collection.

Respondents: Business or other for-profit entities and Not-for-profit institutions.

Number of Respondents: 6,512 respondents; 6,561 responses.

Estimated Time per Response: 0.5-80 hours.

Frequency of Response: On occasion, one time, and annual reporting requirements; third-party disclosure requirement; recordkeeping requirement.

Obligation to Respond: Required to obtain or retain benefits. The Commission has statutory authority for the information collection requirements under 47 U.S.C. 154, 301, 302, 303, 307, 309, 310, 319, 332, 605, and 721.

Total Annual Burden: 45,036 hours.

Total Annual Cost: $17,105,204.

Privacy Act Impact Assessment: No impact(s).

Nature and Extent of Confidentiality: There is no need for confidentiality pertaining to the information collection requirements in this collection.

Needs and Uses: On September 27, 2018, the Commission released a Report and Order and Further Notice of Proposed Rulemaking, FCC 18-138, in IB Docket No. 17-95, titled “Amendment of Parts 2 and 25 of the Commission's Rules to Facilitate the Use of Earth Stations in Motion Communicating with Geostationary Orbit Space Stations in Frequency Bands Allocated to the Fixed Satellite Service” (ESIM GSO FSS Report and Order and FNPRM). In this Report and Order, the Commission simplifies its rules to facilitate the continued deployment of Earth Stations in Motion (ESIMs) and reduce the regulatory burdens on ESIMs. Specifically, the Commission reorganized and consolidated sections in Part 25 of the Commission's rules addressing ESIMs. The Commission also expanded the scope of operations of ESIMs to communicate in additional frequency bands with geostationary-satellite orbit (GSO) satellites operating in the fixed-satellite service (FSS). These actions will promote innovative and flexible use of satellite technology and provide new opportunities for a variety of uses. This information collection will provide the Commission and the public with necessary information about the operations of this growing area of satellite operations. This information collection represents a decrease in the overall paperwork burdens for operators of earth stations in motion, serving the public interest by streamlining the collection of information and allow the Commission to authorize routine licensing of ESIM operations in the Ka-band while protecting the interests of FSS operators.

Specifically, FCC 18-138 contains new or modified information collection requirements listed below:

(1) Earth Stations on Vessel (ESV), Vehicle-Mounted Earth Station (VMES) and Earth Station Aboard Aircraft (ESAA) requirements previously incorporated in 25.221, 25.222, 25.226 and 25.227 have been streamlined and are in the new ESIMs section 25.228.

(2) Minor discrepancies between the previous rules in 25.221, 25.222, 25.226 and 25.227 were harmonized in the new section 25.228.

(3) The antenna pointing accuracy requirement contained in the individual ESV, VMES, and ESAA rules in Sections 25.221, 25.222, 25.226, and 25.227 were eliminated.

(4) Cross references to the previous rules in 25.221, 25.222, 25.226 and 25.227 were eliminated from footnotes to the Table of Allocations, 47 CFR 2.106 and all other rule sections in Part 25.

(5) The off-axis equivalent isotropically radiated power (EIRP) density provisions of Section 25.138 were merged into Section 25.218, thus extending the applicability of Section 25.218 to conventional Ka-band GSO FSS earth stations. This applies a single set of limits across all types of FSS earth station, including those on mobile platforms, and increases the number of applicants who are considered “two-degree-spacing compliant,” and the operators of their target space stations are not required to coordinate the operation of these earth stations with operators of nearby space stations.

(6) Sections 25.130 and 25.131 were merged into Section 25.115, eliminating duplication of rules and making use of the FCC Form 312 EZ permissive, not mandatory.

(7) The data logging requirements that were in paragraphs (a)(5) of Sections 25.221 and 25.222 for C- and Ku-band ESV operators and in paragraphs (a)(6) of Sections 25.226 and 25.227 for Ku-band VMES and ESAA operators were eliminated.

(8) The option to use the alternative licensing compliance demonstration of demonstrating that an earth station antenna gain pattern comports with the off-axis gain limits in Section 25.209, and that the antenna input power density comports with limits in Section 25.212, was extended to ESIM applications.

(9) The certification for a C-band ESV system in Section 25.221(b)(3)(v) regarding compliance with the power limits in Section 25.204(h) is eliminated as no longer necessary.

(10) Sections 25.115(l)-(n)(3)(i) requires all applicants to: “provide a certification that the ESIM system is capable of detecting and automatically ceasing emissions when an individual ESIM transmitter exceeds the relevant off-axis EIRP spectral density limits specified in § 25.218, or the limits provided to the target satellite operator for operation under § 25.220” in lieu of a demonstration.

This collection is used by the Commission's staff in carrying out its statutory duties to regulate satellite communications in the public interest, as generally provided under 47 U.S.C.154, 301, 302, 303, 307, 309, 310, 319, 332, 605, and 721. This collection is also used by staff in carrying out United States treaty obligations under the World Trade Organization (WTO) Basic Telecom Agreement. The information collected is used for the practical and necessary purposes of assessing the legal, technical, and other qualifications of applicants; determining compliance by applicants, licensees, and other grantees with Commission rules and the terms and conditions of their grants; and concluding whether, and under what conditions, grant of an authorization will serve the public interest, convenience, and necessity.

As technology advances and new spectrum is allocated for satellite use, applicants for satellite service will continue to submit the information required in 47 CFR part 25 of the Commission's rules. Without such information, the Commission could not determine whether to permit respondents to provide telecommunication services in the United States. Therefore, the Commission would be unable to fulfill its statutory responsibilities in accordance with the Communications Act of 1934, as amended, and the obligations imposed on parties to the WTO Basic Telecom Agreement.

Federal Communications Commission.
Marlene Dortch,
Secretary, Office of the Secretary.

[FR Doc. 2019-05623 Filed 3-22-19; 8:45 am]

BILLING CODE 6712-01-P